FEDERAL COMMUNICATIONS COMMISSION

47 CFR Part 73

[DA 01-215, MM Docket No. 00-201, RM-9919]

Digital Television Broadcast Service; Portsmouth, VA

AGENCY: Federal Communications Commission.

ACTION: Final rule.

SUMMARY: The Commission, at the request of Viacom Broadcasting of Seattle, Inc., licensee of station WGNT-TV, NTSC channel 27, substitutes DTV channel 50 for DTV channel 19 at Portsmouth, Virginia. See 65 FR 63044, October 20, 2000. DTV channel 50 can be allotted to Portsmouth in compliance with the principle community coverage requirements of Section 73.625(a) at reference coordinates (36-48-43 N. and 76-27-49 W.) with a power of 800, HAAT of 296 meters and with a DTV service population of 1677 thousand. With this action, this proceeding is terminated.

DATES: Effective March 19, 2001.

FOR FURTHER INFORMATION CONTACT: Pam Blumenthal, Mass Media Bureau, (202) 418-1600.

SUPPLEMENTARY INFORMATION: This is a synopsis of the Commission's Report and Order, MM Docket No.00-201, adopted January 31, 2001, and released February 1, 2001. The full text of this Commission decision is available for inspection and copying during normal business hours in the FCC Reference Center 445 12th Street, SW., Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Virginia, is amended by removing DTV channel 19 and adding DTV channel 50 at Portsmouth.

Federal Communications Commission.
Barbara A. Kreisman,
Chief, Video Services Division, Mass Media Bureau.

[FR Doc. 01-3017 Filed 2-5-01; 8:45 am]

BILLING CODE 6712-01-P